NATIONAL AERONAUTICS AND SPACE ADMINISTRATION

[Notice 04-089]

NASA Space Science Advisory Committee, Solar System Exploration Subcommittee; Meeting

AGENCY: National Aeronautics and Space Administration (NASA).

ACTION: Notice of Meeting.

SUMMARY: The National Aeronautics and Space Administration announces a meeting of the NASA Space Science Advisory Committee (SScAC), Solar System Exploration Subcommittee (SSES).

DATES: Monday, July 26, 2004, 8:30 a.m. to 5 p.m., and Tuesday, July 27, 2004, 8:30 a.m. to 5 p.m.

ADDRESSES: Shelter Pointe Hotel and Marina, 1551 Island Drive, San Diego, CA 92106.

FOR FURTHER INFORMATION CONTACT: Dr. Jay Bergstralh, Code SE, National Aeronautics and Space Administration, Washington, DC 20546, 202/358-0313, jay.t.bergstralh@nasa.gov.

SUPPLEMENTARY INFORMATION: The meeting will be open to the public up to the seating capacity of the room. The agenda for the meeting is as follows:

• 2005 Solar System Exploration Roadmap Progress Reports

• Summary of Recommendations from President's Commission on Implementation of U.S. Space Exploration Policy

• Status of Solar System Exploration

• Status of Mars Exploration Program

• Status of Space Science

• Government Performance Results Act Evaluation

It is imperative that the meeting be held on these dates to accommodate the scheduling priorities of the key participants. Visitors will be requested to sign a visitor's register.

R. Andrew Falcon,
Advisory Committee Management Officer, National Aeronautics and Space Administration.

[FR Doc. 04-16069 Filed 7-14-04; 8:45 am]

BILLING CODE 7510-01-P